DEPARTMENT OF ENERGY

Federal Energy Regulatory Commission

Combined Notice of Filings #1

December 02, 2009.

Take notice that the Commission received the following electric corporate filings:

Docket Numbers: EC10-27-000.

Applicants: Empire Generating Co, LLC, Niagara Mohawk Power Corporation.

Description: Joint Application for Authorization of Transfer of Certain Limited Interconnection Related Facilities Under Section 203 of the FPA and Request for Waivers of Filing Requirements and 21-Day Comment Period.

Filed Date: 12/01/2009.

Accession Number: 20091201-5158.

Comment Date: 5 p.m. Eastern Time on Tuesday, December 22, 2009.

Take notice that the Commission received the following electric rate filings:

Docket Numbers: ER03-1330-002.

Applicants: Ebersen, Inc.

Description: Ebersen, Inc submits an application for market-base rate authority.

Filed Date: 11/30/2009.

Accession Number: 20091201-0057.

Comment Date: 5 p.m. Eastern Time on Monday, December 21, 2009.

Docket Numbers: ER10-310-000.

Applicants: Algonquin Energy Services Inc.

Description: Algonquin Energy Services, Inc submits application for market based rate authority for certain waivers and blanket approvals, and request for expedited Treatment.

Filed Date: 11/25/2009.

Accession Number: 20091130-0026.

Comment Date: 5 p.m. Eastern Time on Wednesday, December 16, 2009.

Docket Numbers: ER10-316-000.

Applicants: Midwest Independent Transmission System Operator, Inc.

Description: Midwest ISO submits their proposed clean up filing required by the Commission's Order 714.

Filed Date: 11/24/2009.

Accession Number: 20091125-0130.

Comment Date: 5 p.m. Eastern Time on Tuesday, December 15, 2009.

Docket Numbers: ER10-323-000.

Applicants: Tilton Energy LLC.

Description: Tilton Energy LLC submits Rate Schedule FERC No 1.

Filed Date: 11/25/2009.

Accession Number: 20091130-0025.

Comment Date: 5 p.m. Eastern Time on Wednesday, December 16, 2009.

Docket Numbers: ER10-324-000.

Applicants: E. ON U.S. LLC.

Description: EON US LLC submits Emergency Energy Transaction Protocol Agreement.

Filed Date: 11/25/2009.

Accession Number: 20091130-0024.

Comment Date: 5 p.m. Eastern Time on Wednesday, December 16, 2009.

Docket Numbers: ER10-325-000.

Applicants: Dynegy Midwest Generation, Inc.

Description: Dynegy Midwest Generation, Inc revised Rate Schedule FERC No 5.

Filed Date: 11/25/2009.

Accession Number: 20091130-0023.

Comment Date: 5 p.m. Eastern Time on Wednesday, December 16, 2009.

Docket Numbers: ER10-326-000.

Applicants: New England Power Pool.

Description: The New England Power Pool submits transmittal letter and counterpart signature pages of their agreement dated as of 9/1/71 re member applications and termination of memberships etc.

Filed Date: 11/30/2009.

Accession Number: 20091202-0005.

Comment Date: 5 p.m. Eastern Time on Monday, December 21, 2009.

Docket Numbers: ER10-327-000.

Applicants: Dynegy Midwest Generation, Inc.

Description: Dynegy Midwest Generation, Inc submits an Amended and Restated Black Start Service Agreement dated 11/25/09 with Ameren Services Company et al.

Filed Date: 11/30/2009.

Accession Number: 20091202-0004.

Comment Date: 5 p.m. Eastern Time on Monday, December 21, 2009.

Docket Numbers: ER10-328-000.

Applicants: Niagara Mohawk Power Corporation.

Description: Niagara Mohawk Power Corporation submit revised tariff sheets to the Open Access Transmission Tariff etc.

Filed Date: 11/30/2009.

Accession Number: 20091202-0003.

Comment Date: 5 p.m. Eastern Time on Monday, December 21, 2009.

Docket Numbers: ER10-329-000.

Applicants: Southwest Power Pool, Inc.

Description: Southwest Power Pool, Inc submits an executed service agreement for Network Integration Transmission Service with Kansas Electric Power Cooperative etc.

Filed Date: 11/30/2009.

Accession Number: 20091202-0002.

Comment Date: 5 p.m. Eastern Time on Monday, December 21, 2009.

Docket Numbers: ER10-322-000.

Applicants: Northeast Utilities Service Company.

Description: Western Massachusetts Electric Co submits a Notice of Cancellation of Rate Schedule FERC No 402 and all supplements etc.

Filed Date: 11/24/2009.

Accession Number: 20091125-0141.

Comment Date: 5 p.m. Eastern Time on Tuesday, December 15, 2009.

Docket Numbers: ER10-330-000.

Applicants: Southwest Power Pool, Inc.

Description: Southwest Power Pool, Inc submits proposal to revise its Open Access Transmission Tariff to incorporate resident load reporting deadline.

Filed Date: 12/01/2009.

Accession Number: 20091202-0001.

Comment Date: 5 p.m. Eastern Time on Tuesday, December 22, 2009.

Docket Numbers: ER10-332-000.

Applicants: Pacific Gas and Electric Company.

Description: Pacific Gas and Electric Company submit Service Agreement No 9 et al. to FERC Electric Tariff, First Revised Volume No 4.

Filed Date: 12/01/2009.

Accession Number: 20091202-0012.

Comment Date: 5 p.m. Eastern Time on Tuesday, December 22, 2009.

Docket Numbers: ER10-331-000.

Applicants: Southwest Power Pool, Inc.

Description: Southwest Power Pool, Inc submits an executed amended Service Agreement with Kansas City Power & Light Greater Missouri Operations Company etc.

Filed Date: 11/30/2009.

Accession Number: 20091202-0006.

Comment Date: 5 p.m. Eastern Time on Monday, December 21, 2009.

Docket Numbers: ER10-333-000.

Applicants: Southwest Power Pool, Inc.

Description: Southwest Power Pool, Inc submits an executed service agreement for Network Integration Transmission Service etc.

Filed Date: 11/30/2009.

Accession Number: 20091202-0007.

Comment Date: 5 p.m. Eastern Time on Monday, December 21, 2009.

Docket Numbers: ER10-334-000.

Applicants: Southwest Power Pool, Inc.

Description: Southwest Power Pool, Inc submits an executed service agreement for Network Integration Transmission Service between Southwest Power Pool, Inc as Transmission Provide and Kansas Municipal Energy Agency et al.

Filed Date: 11/30/2009.

Accession Number: 20091202-0008.

Comment Date: 5 p.m. Eastern Time on Monday, December 21, 2009.

Docket Numbers: ER10-335-000.

Applicants: Southwest Power Pool, Inc.

Description: Southwest Power Pool, Inc submits an executed service agreement for Network Integration Transmission Service between Southwest Power Pool, Inc as Transmission Provide and City of Coffeyville, Kansas et al.

Filed Date: 11/30/2009.

Accession Number: 20091202-0009.

Comment Date: 5 p.m. Eastern Time on Monday, December 21, 2009.

Docket Numbers: ER10-336-000.

Applicants: Southwest Power Pool, Inc.

Description: Southwest Power Pool, Inc submits an executed service agreement for Network Integration Transmission Service between Southwest Power Pool, Inc as Transmission Provide and the Empire District Electric Company etc.

Filed Date: 11/30/2009.

Accession Number: 20091202-0010.

Comment Date: 5 p.m. Eastern Time on Monday, December 21, 2009.

Docket Numbers: ER10-337-000.

Applicants: Southwest Power Pool, Inc.

Description: Southwest Power Pool, Inc submits an executed service agreement for Network Integration Transmission Service between Southwest Power Pool, Inc as Transmission Provide and Kansas Power and Light Company etc.

Filed Date: 11/30/2009.

Accession Number: 20091202-0011.

Comment Date: 5 p.m. Eastern Time on Monday, December 21, 2009.

Docket Numbers: ER10-338-000.

Applicants: Southwest Power Pool, Inc.

Description: Southwest Power Pool, Inc submits executed service agreement for Network Integration Transmission Service between SPP and Kansas Electric Power Cooperative et al.

Filed Date: 12/01/2009.

Accession Number: 20091202-0013.

Comment Date: 5 p.m. Eastern Time on Tuesday, December 22, 2009.

Docket Numbers: ER10-339-000.

Applicants: Southwest Power Pool, Inc.

Description: Southwest Power Pool, Inc submits executed service agreement for Firm Point to Point Transmission Service between SPP and Midwest Energy, Inc.

Filed Date: 12/01/2009.

Accession Number: 20091202-0014.

Comment Date: 5 p.m. Eastern Time on Tuesday, December 22, 2009.

Docket Numbers: ER10-340-000.

Applicants: California Independent System Operator Corporation.

Description: California Independent System Operator Corporation submits Amendment No 4 to Interconnected Control Area Operating Agreement between the ISO and Nevada Power Company.

Filed Date: 12/01/2009.

Accession Number: 20091202-0018.

Comment Date: 5 p.m. Eastern Time on Tuesday, December 22, 2009.

Docket Numbers: ER10-341-000.

Applicants: Southwest Power Pool, Inc.

Description: Southwest Power Pool, Inc submits executed service agreement for Network Integration Transmission Service between SPP and Grand River Dam Authority et al.

Filed Date: 12/01/2009.

Accession Number: 20091202-0017.

Comment Date: 5 p.m. Eastern Time on Tuesday, December 22, 2009.

Docket Numbers: ER10-342-000.

Applicants: California Independent System Operator Corporation.

Description: California Independent System Operator Corporation submits Pseudo Participating Generator Agreement.

Filed Date: 12/01/2009.

Accession Number: 20091202-0016.

Comment Date: 5 p.m. Eastern Time on Tuesday, December 22, 2009.

Docket Numbers: ER10-344-000.

Applicants: PJM Interconnection, LLC.

Description: PJM Interconnection, LLC Request for Limited Tariff Waiver.

Filed Date: 12/01/2009.

Accession Number: 20091201-5152.

Comment Date: 5 p.m. Eastern Time on Tuesday, December 22, 2009.

Take notice that the Commission received the following electric reliability filings:

Docket Numbers: RD10-4-000.

Applicants: North American Electric Reliability Corporation.

Description: Petition of the North American Electric Reliability Corporation for Approval of Two Reliability Standards Revisions to Withdraw MISO Waivers.

Filed Date: 11/20/2009.

Accession Number: 20091120-5150.

Comment Date: 5 p.m. Eastern Time on Wednesday, December 23, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-29274 Filed 12-8-09; 8:45 am]

BILLING CODE 6717-01-P